DEPARTMENT OF COMMERCE

International Trade Administration

[A-570-863]

Honey from the People's Republic of China: Notice of Partial Rescission of Antidumping Duty Administrative Review

AGENCY: Import Administration, International Trade Administration, Department of Commerce.

SUMMARY: On January 22, 2004, the Department of Commerce (the Department) published in the Federal Register (69 FR 3117) a notice announcing the initiation of the administrative review of the antidumping duty order on honey from the People's Republic of China. The period of review (POR) is December 1, 2002, to November 30, 2003. This review is now being rescinded for Anhui Native Produce Import & Export Corp., (“Anhui Native”), and Foodworld International Club, Ltd. (“Foodworld”) because the requesting party withdrew its request.

EFFECTIVE DATE: March 10, 2004.

FOR FURTHER INFORMATION CONTACT: Helen Kramer or Abdelali Elouaradia, Enforcement Group III, Office 8, Import Administration, International Trade Administration, U.S. Department of Commerce, 14th Street and Constitution Avenue, N.W., Room 7866, Washington, D.C. 20230; telephone (202) 482-0405 or (202) 482-1374, respectively.

SUPPLEMENTARY INFORMATION:

Scope of Review

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90 and 2106.90.99 of the Harmonized Tariff Schedule of the United States (HTSUS). Although the HTSUS subheading is provided for convenience and customs purposes, the written description of the merchandise under review is dispositive.

Background

On December 10, 2001, the Department of Commerce (the Department) published in the Federal Register an antidumping duty order covering honey from the People's Republic of China (PRC). See Notice of Amended Final Determination of Sales at Less Than Fair Value and Antidumping Duty Order; Honey from the People's Republic of China, 66 FR 63670 (December 10, 2001). On December 2, 2003, the Department published a Notice of Opportunity to Request an Administrative Review of Antidumping or Countervailing Duty Order, Finding, or Suspended Investigation, 68 FR 67401. On December 31, 2003, the American Honey Producers Association and the Sioux Honey Association (collectively, petitioners), requested, in accordance with section 351.213(b) of the Department's regulations, an administrative review of the antidumping duty order on honey from the PRC covering the period December 1, 2002, through November 30, 2003.

The petitioners requested that the Department conduct an administrative review of entries of subject merchandise made by 20 Chinese producers/exporters, which included Anhui Native and Foodworld. On January 14, 2004, the petitioners filed a letter withdrawing their request for review of Henan Native Produce and Animal By-Products Import & Export Company, High Hope International Group Jiangsu Foodstuffs Import & Export Corp., Jinan Products Industry Co., Ltd., and Native Produce and Animal Import & Export Co. On January 22, 2003, the Department initiated the review for the remaining 16 companies. See Initiation of Antidumping and Countervailing Duty Administrative Reviews and Requests for Revocation in Part, 68 FR 3009. The petitioners subsequently withdrew their request for review of Foodworld and Anhui Native on February 13, 2004 and February 18, 2004, respectively.

Rescission of Review

The applicable regulation, 19 CFR 351.213(d)(1), states that if a party that requested an administrative review withdraws the request within 90 days of the publication of the notice of initiation of the requested review, the Secretary will rescind the review. The petitioners withdrew their review request with respect to Anhui Native and Foodworld within the 90-day deadline, in accordance with 19 CFR 351.213(d)(1). Since the petitioners were the only party to request an administrative review of Anhui Native and Foodworld, we are rescinding this review of the antidumping duty order on honey from the PRC covering the period December 1, 2002, through November 30, 2003, with respect to Anhui Native and Foodworld.

This notice is issued and published in accordance with sections 751 and 777(i) of the Act and 19 CFR 351.213(d)(4).

Dated: March 2, 2004.
James J. Jochum,
Assistant Secretary for Import Administration.

[FR Doc. 04-5383 Filed 3-9-04; 8:45 am]

BILLING CODE 3510-DS-S